GENERAL SERVICES ADMINISTRATION

[Notice-CECANF-2015-06; Docket No. 2015-0006; Sequence No. 6]

Commission To Eliminate Child Abuse and Neglect Fatalities; Announcement of Meeting

AGENCY: Commission To Eliminate Child Abuse and Neglect Fatalities, GSA.

ACTION: Meeting Notice.

SUMMARY: The Commission to Eliminate Child Abuse and Neglect Fatalities (CECANF), a Federal Advisory Committee established by the Protect Our Kids Act of 2012, will hold a meeting open to the public by teleconference on Wednesday, July 1, 2015 in Washington, DC.

DATES: The meeting will be held on Wednesday, July 1, 2015, from 1:00 p.m. to 3:00 p.m. Eastern Daylight Time (EDT). Submit comments identified by “Notice-CECANF-2015-06,” by either of the following methods:

• Regulations.gov: http://www.regulations.gov.

Submit comments via the Federal eRulemaking portal by searching for “Notice-CECANF-2015-06.” Select the link “Comment Now” that corresponds with “Notice-CECANF-2015-06.” Follow the instructions provided on the screen. Please include your name, organization name (if any), and “Notice-CECANF-2015-06” on your attached document.

• Mail: U.S. General Services Administration, 1800 F Street NW., Room 7003D, Washington, DC 20405, Attention: Tom Hodnett (CD) for CECANF.

Instructions: Please submit comments only and cite “Notice-CECANF-2015-06” in all correspondence related to this notice. All comments received will be posted without change to http://www.regulations.gov, including any personal and/or business confidential information provided.

FOR FURTHER INFORMATION CONTACT: Visit the CECANF Web site at https://eliminatechildabusefatalities.sites.usa.gov/ or contact Patricia Brincefield, Communications Director, at 202-818-9596, U.S. General Services Administration, 1800 F Street NW., Room 7003D, Washington, DC 20405, Attention: Tom Hodnett (CD) for CECANF.

SUPPLEMENTARY INFORMATION:

Background: CECANF was established to develop a national strategy and recommendations for reducing fatalities resulting from child abuse and neglect.

Agenda: This meeting on data accountability and interoperability will be hosted by CECANF in conjunction with the House Committee on Ways and Means Subcommittee on Human Resources and the Senate Finance Committee. Invited participants will include senior federal agency staff with program and data expertise on federal data sets identified by CECANF as critical to its charge.

Attendance at the Meeting: Individuals interested in participating by teleconference must register in advance. To register, please go to http://meetingtomorrow.com/webcast/cecanfdc and follow the prompts. Once you register, you will receive a confirmation email with the teleconference number. Detailed meeting minutes will be posted within 90 days of the meeting. Members of the public will not have the opportunity to ask questions or otherwise participate in the meeting.

However, members of the public wishing to comment should follow the steps detailed under the heading Dates in this publication or contact us via the CECANF Web site at https://eliminatechildabusefatalities.sites.usa.gov/contact-us/.

Dated: June 18, 2015.
Amy Templeman,
Acting Executive Director.

[FR Doc. 2015-15513 Filed 6-23-15; 8:45 am]

BILLING CODE 6820-34-P